DEPARTMENT OF HOMELAND SECURITY

Coast Guard

[Docket No. USCG-2017-1000]

Merchant Mariner Medical Advisory Committee; Vacancy

AGENCY: U.S. Coast Guard, Department of Homeland Security.

ACTION: Request for applications.

SUMMARY: The U.S. Coast Guard seeks applicants for membership on the Merchant Mariner Medical Advisory Committee. The Committee provides advice and recommendations to the Secretary on matters related to medical certification determinations for issuance of licenses, certificates of registry, and merchant mariners' documents; medical standards and guidelines for the physical qualifications of operators of commercial vessels; medical examiner education; and medical research.

DATES: Completed applications should be submitted to the U.S. Coast Guard on or before February 26, 2018.

ADDRESSES: Applicants should send a cover letter expressing interest in an appointment to the Merchant Mariner Medical Advisory Committee that also identifies which membership category the applicant is applying under, along with a resume detailing the applicant's experience via one of the following methods:

• By Email: davis.j.breyer@uscg.mil; Subject Line: The Merchant Mariner Medical Advisory Committee;

• By Fax: 202-372-8382 ATTN: Mr. Davis J. Breyer, Alternate Designated Federal Officer; or

• By Mail: Mr. Davis J. Breyer, Alternate Designated Federal Officer of the Merchant Mariner Medical Advisory Committee, 2703 Martin Luther King Jr. Ave. SE, Stop 7509, Washington, DC 20593-7509.

FOR FURTHER INFORMATION CONTACT: Mr. Davis J. Breyer, Alternate Designated Federal Officer of the Merchant Mariner Medical Advisory Committee, 2703 Martin Luther King Jr. Ave. SE, Stop 7509, Washington, DC 20593-7509, telephone 202-372-1445, fax 202-372-8382 or davis.j.breyer@uscg.mil.

SUPPLEMENTARY INFORMATION: The Merchant Mariner Medical Advisory Committee is a federal advisory committee which operates under the provisions of the Federal Advisory Committee Act (Title 5 U.S.C. Appendix).

The Committee meets not less than twice each year. Its subcommittees and working groups may also meet intercessionally to consider specific tasks as required.

Each Merchant Mariner Medical Advisory Committee member serves a term of office of up to five years. Members may serve a maximum of two consecutive terms. All members serve without compensation from the Federal Government; however, upon request, they may receive travel reimbursement and per diem.

We will consider applications for one professional mariner membership position. To be eligible, you must have experience as a merchant mariner and have significant knowledge and experience in the duties of the various positions aboard ship and the nature of the environment in which these duties are performed.

If you are selected as a member you will be appointed and serve as a Special Government Employee as defined in section 202(a) of Title 18, U.S.C. Applicants for appointment as a Special Government Employee are required to complete a Confidential Financial Disclosure Report (OGE Form 450). The U.S. Coast Guard may not release the reports or the information in them to the public except under an order issued by a federal court or as otherwise provided under the Privacy Act (5 U.S.C. 552a). Only the Designated U.S. Coast Guard Ethics Official or his or her designee may release a Confidential Financial Disclosure Report. Applicants can obtain this form by going to the website of the Office of Government Ethics (www.oge.gov) or by contacting the individual listed above in FOR FURTHER INFORMATION CONTACT. Applications that are not accompanied by a completed OGE Form 450 will not be considered.

Registered lobbyists are not eligible to serve on federal advisory committees in an individual capacity. See “Revised Guidance on Appointment of Lobbyists to Federal Advisory Committees, Boards and Commissions” (79 FR 47482, August 13, 2014). Registered lobbyists are lobbyists as defined in Title 2 U.S.C. 1602 who are required by Title 2 U.S.C. 1603 to register with the Secretary of the Senate and the Clerk of the House Representatives.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment actions.

If you are interested in applying to become a member of the Committee, send your cover letter and resume to Mr. Davis J. Breyer, Alternate Federal Officer of the Merchant Mariner Medical Advisory Committee via one of the transmittal methods in the ADDRESSES section by the deadline in the DATES section of this notice. All email submittals will receive email receipt confirmation.

Dated: December 14, 2017.
Jeffrey G. Lantz,
Director of Commercial Regulations and Standards.

[FR Doc. 2017-27711 Filed 12-22-17; 8:45 am]

BILLING CODE 9110-04-P